DEPARTMENT OF COMMERCE

International Trade Administration

[C-721-002, C-729-806, C-552-854]

Steel Concrete Reinforcing Bar From Algeria, Egypt, and the Socialist Republic of Vietnam: Postponement of Preliminary Determinations in the Countervailing Duty Investigations

AGENCY: Enforcement and Compliance, International Trade Administration, Department of Commerce.

DATES: Applicable July 25, 2025.

FOR FURTHER INFORMATION CONTACT: Shane Subler or Henry Wolfe at (202) 482-6241 or (202) 482-0574, respectively, (Algeria); Lingjun Wang at (202) 482-2316 (Egypt); and Christopher Williams at (202) 482-5166 (the Socialist Republic of Vietnam (Vietnam)); AD/CVD Operations, Enforcement and Compliance, International Trade Administration, U.S. Department of Commerce, 1401 Constitution Avenue NW, Washington, DC 20230.

SUPPLEMENTARY INFORMATION:

Background

On June 24, 2025, the U.S. Department of Commerce (Commerce) initiated countervailing duty (CVD) investigations of imports of steel concrete reinforcing bar (rebar) from Algeria, Egypt and Vietnam.¹ Currently, the preliminary determinations are due no later than August 28, 2025.

¹ See Initiation of Countervailing Duty Investigations, 90 FR 27838 (June 30, 2025) (Initiation Notice).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 14, 2025, the petitioner ² submitted a timely request that Commerce postpone the preliminary determinations in these CVD investigations.³ The petitioner stated that it requests postponement so that Commerce has sufficient time to analyze initial questionnaire responses and any new subsidy allegations, consider deficiency comments, issue any supplemental questionnaire responses, and draft its preliminary determinations.⁴

² The petitioner is the Rebar Trade Action Coalition.

³ See Petitioner's Letter, “Request for Extension of Preliminary Determination Deadline” dated July 14, 2025.

⁴ Id.

In accordance with 19 CFR 351.205(e), the petitioner has stated the reasons for requesting a postponement of the preliminary determinations, and Commerce finds no compelling reason to deny the request. Therefore, in accordance with section 703(c)(1)(A) of the Act, Commerce is postponing the deadline for the preliminary determinations to no later than 130 days after the date on which these investigations were initiated, i.e., November 3, 2025.⁵ Pursuant to section 705(a)(1) of the Act and 19 CFR 351.210(b)(1), the deadline for the final determinations of these investigations will continue to be 75 days after the date of the preliminary determinations.

⁵ Postponing these preliminary determinations to 130 days after initiation would place the deadlines on Saturday, November 1, 2025. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: July 22, 2025.
Christopher Abbott,
Deputy Assistant Secretary for Policy and Negotiations, performing the non-exclusive functions and duties of the Assistant Secretary for Enforcement and Compliance.

[FR Doc. 2025-14095 Filed 7-24-25; 8:45 am]

BILLING CODE 3510-DS-P